NUCLEAR REGULATORY COMMISSION

[NRC-2019-0257]

Information Collection: Nondiscrimination in Federally Assisted Programs or Activities Receiving Assistance From the Commission

AGENCY: Nuclear Regulatory Commission.

ACTION: Renewal of existing information collection; request for comment.

SUMMARY: The U.S. Nuclear Regulatory Commission (NRC) invites public comment on the renewal of Office of Management and Budget (OMB) approval for an existing collection of information. The information collection is entitled, “Nondiscrimination in Federally Assisted Programs or Activities Receiving Assistance from the Commission.”

DATES: Submit comments by December 26, 2023. Comments received after this date will be considered if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2019-0257. Address questions about Docket IDs in Regulations.gov to Stacy Schumann; telephone: 301-415-0624; email: Stacy.Schumann@nrc.gov. For technical questions, contact the individual listed in the For Further Information Contact section of this document.

• Mail comments to: David Cullison, Office of the Chief Information Officer, Mail Stop: T-6 A10M, U.S. Nuclear Regulatory Commission, Washington, DC 20555-0001.

For additional direction on obtaining information and submitting comments, see “Obtaining Information and Submitting Comments” in the SUPPLEMENTARY INFORMATION section of this document.

FOR FURTHER INFORMATION CONTACT: David Cullison, Office of the Chief Information Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2019-0257 when contacting the NRC about the availability of information for this action. You may obtain publicly available information related to this action by any of the following methods:

• Federal Rulemaking website: Go to https://www.regulations.gov and search for Docket ID NRC-2019-0257. A copy of the collection of information and related instructions may be obtained without charge by accessing Docket ID NRC-2019-0257 on this website.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. A copy of NRC Forms 781 and 782 and related instructions may be obtained without charge by accessing ADAMS Accession Nos. ML23137A372 and ML23137A371. The supporting statement is available in ADAMS under Accession No. ML23137A378.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• NRC's Clearance Officer: A copy of the collection of information and related instructions may be obtained without charge by contacting NRC's Clearance Officer, David Cullison, Office of the Chief Information Officer, U.S. Nuclear Regulatory Commission, Washington, DC 20555-0001; telephone: 301-415-2084; email: Infocollects.Resource@nrc.gov.

B. Submitting Comments

The NRC encourages electronic comment submission through the Federal rulemaking website (https://www.regulations.gov). Please include Docket ID NRC-2019-0257 in the subject line of your comment submission.

The NRC cautions you not to include identifying or contact information in comment submissions that you do not want to be publicly disclosed in your comment submission. All comment submissions are posted at https://www.regulations.gov and entered into ADAMS. Comment submissions are not routinely edited to remove identifying or contact information,

If you are requesting or aggregating comments from other persons for submission to the NRC, then you should inform those persons not to include identifying or contact information that they do not want to be publicly disclosed in their comment submission. Your request should state that comment submissions are not routinely edited to remove such information before making the comment submissions available to the public or entering the comment into ADAMS.

II. Background

In accordance with the Paperwork Reduction Act of 1995 (44 U.S.C. Chapter 35), the NRC is requesting public comment on its intention to request the OMB's approval for the information collection summarized below.

1. The title of the information collection: 10 CFR part 4, Nondiscrimination in Federally Assisted Programs or Activities Receiving Assistance from the Commission.

2. OMB approval number: 3150-0053.

3. Type of submission: Extension.

4. The form number, if applicable: NRC Forms 781 and 782.

5. How often the collection is required or requested: NRC Form 781, “SBCR Compliance Review Part A,” is submitted upon initiation or modification of a program, during the pre-award and post-award stage, periodic monitoring, and, if a complaint is being processed. NRC Form 782, “Complaint Form,” is submitted on occasion, if any person believes himself or any specific class of individuals, have been subjected to discrimination prohibited by part 4 of title 10 of the Code of Federal Regulations, (10 CFR), subpart A, “Regulations Implementing Title VI of the Civil Rights Act of 1964 and Title IV of the Energy Reorganization Act of 1974,” on behalf of the primary funding recipient or any other recipient that received NRC Federal financial assistance through the primary funding recipient. Self-evaluations are performed throughout the duration of obligation based on 10 CFR 4.231, “Responsibility of applicants and recipients.”

6. Who will be required or asked to respond: Recipients of Federal financial assistance provided by the NRC (including educational institutions, other nonprofit organizations receiving Federal assistance, and Agreement States).

7. The estimated number of annual responses: 502.

8. The estimated number of annual respondents: 200.

9. The estimated number of hours needed annually to comply with the information collection requirement or request: 802 (152 hours for reporting (4 hours per respondent) and 650 hours for recordkeeping (3.25 hours per recordkeeper).

10. Abstract: All recipients of Federal financial assistance from the NRC are subject to the provisions of 10 CFR part 4, “Nondiscrimination in Federally Assisted Programs or Activities Receiving Assistance from the Commission.” Respondents must submit assurances of compliance with 10 CFR part 4 and complete NRC Form 781, to demonstrate compliance with civil rights statutes and regulations, Executive Orders, White House education initiatives, and related provisions of the Energy Policy Act of 2005 for nondiscrimination with respect to race, color, national origin, sex, disability, or age. Respondents must also notify participants, beneficiaries, applicants, and employees of nondiscrimination practices and keep records of Federal financial assistance and of their own self-evaluations of policies and practices. In the event that discrimination is alleged in NRC- conducted and Federal financially assisted programs and activities, it may be reported using NRC Form 782.

III. Specific Requests for Comments

The NRC is seeking comments that address the following questions:

1. Is the proposed collection of information necessary for the NRC to properly perform its functions? Does the information have practical utility? Please explain your answer.

2. Is the estimate of the burden of the information collection accurate? Please explain your answer.

3. Is there a way to enhance the quality, utility, and clarity of the information to be collected?

4. How can the burden of the information collection on respondents be minimized, including the use of automated collection techniques or other forms of information technology?

Dated: October 19, 2023.
For the Nuclear Regulatory Commission.
David C. Cullison,
NRC Clearance Officer, Office of the Chief Information Officer.

[FR Doc. 2023-23498 Filed 10-24-23; 8:45 am]

BILLING CODE 7590-01-P